DEPARTMENT OF HOMELAND SECURITY

Bureau of Customs and Border Protection

DEPARTMENT OF THE TREASURY

19 CFR PART 12

[CBP Dec. 06-09]

RIN 1505-AB59

Import Restrictions Imposed on Certain Archaeological and Ethnological Materials From Colombia

AGENCY: Customs and Border Protection; Homeland Security; Treasury.

ACTION: Final rule.

SUMMARY: This final rule amends the Customs and Border Protection (CBP) regulations to reflect the imposition of import restrictions on certain archaeological material and certain ethnological material from Colombia. These restrictions are being imposed pursuant to an agreement between the United States and the Government of Colombia that has been entered into under the authority of the Convention on Cultural Property Implementation Act in accordance with the United Nations Educational, Scientific and Cultural Organization (UNESCO) Convention on the Means of Prohibiting and Preventing the Illicit Import, Export and Transfer of Ownership of Cultural Property. The final rule amends CBP regulations by adding Colombia to the list of countries for which a bilateral agreement has been entered into for imposing cultural property import restrictions. The final rule also contains the designated list that describes the types of archaeological and ethnological articles to which the restrictions apply.

DATES: Effective Date: March 17, 2006.

FOR FURTHER INFORMATION CONTACT: For legal aspects, George Frederick McCray, Esq., Office of Regulations and Rulings, (202) 572-8709; for operational aspects, Michael Craig, Chief, Other Government Agencies Branch (202) 344-1684.

SUPPLEMENTARY INFORMATION:

Background

The value of cultural property, whether archaeological or ethnological in nature, is immeasurable. Such items often constitute the very essence of a society and convey important information concerning a people's origin, history, and traditional setting. The importance and popularity of such items regrettably makes them targets of theft, encourages clandestine looting of archaeological sites, and results in their illegal export and import.

The United States shares in the international concern for the need to protect endangered cultural property. The appearance in the United States of stolen or illegally exported artifacts from other countries where there has been pillage has, on occasion, strained our foreign and cultural relations. This situation, combined with the concerns of museum, archaeological, and scholarly communities, was recognized by the President and Congress. It became apparent that it was in the national interest for the United States to join with other countries to control illegal trafficking of such articles in international commerce.

The United States joined international efforts and actively participated in deliberations resulting in the 1970 UNESCO Convention on the Means of Prohibiting and Preventing the Illicit Import, Export and Transfer of Ownership of Cultural Property (823 U.N.T.S. 231 (1972)). U.S. acceptance of the 1970 UNESCO Convention was codified into U.S. law as the “Convention on Cultural Property Implementation Act” (Pub. L. 97-446, 19 U.S.C. 2601 et seq.) (the Act). This was done to promote U.S. leadership in achieving greater international cooperation towards preserving cultural treasures that are of importance to the nations from where they originate and contribute to greater international understanding of our common heritage.

During the past several years, import restrictions have been imposed on archaeological and ethnological artifacts/materials of a number of signatory nations. These restrictions have been imposed as a result of requests for protection received from those nations, as well as pursuant to bilateral agreements between the United States and other countries. More information on import restrictions can be found on the International Cultural Property Protection Web site (http://exchanges.state.gov/culprop/index.html).

This document announces that import restrictions are now being imposed on certain archaeological and ethnological materials from Colombia.

Determinations

Under 19 U.S.C. 2602(a)(1), the United States must make certain determinations before entering into an agreement to impose import restrictions under 19 U.S.C. 2602(a)(2). On May 10, 2005, the Assistant Secretary of State for Educational and Cultural Affairs made the determinations required under the statute with respect to certain archaeological materials originating in Colombia that represent pre-Colombian cultures and certain Colonial ecclesiastical ethnological materials that are described in the designated list set forth further below in this document (“Determinations to Impose Import Restrictions on Archaeological Material from the Pre-Colombian Cultures of Colombia and Colonial Ecclesiastical Ethnological Material”). These determinations include the following: (1) That the cultural patrimony of Colombia is in jeopardy from the pillage of irreplaceable archaeological materials representing its pre-Colombian heritage (ranging in date from approximately 1500 B.C. to A.D. 1530) and irreplaceable ecclesiastical ethnological materials of the Colonial period (ranging in date from approximately A.D. 1530 to 1830) (19 U.S.C. 2602(a)(1)(A)); (2) that the Government of Colombia has taken measures consistent with the Convention to protect its cultural patrimony (19 U.S.C. 2602(a)(1)(B)); (3) that import restrictions imposed by the United States would be of substantial benefit in deterring a serious situation of pillage and remedies less drastic are not available (19 U.S.C. 2602(a)(1)(C)); and (4) that the application of import restrictions as set forth in this final rule is consistent with the general interests of the international community in the interchange of cultural property among nations for scientific, cultural, and educational purposes (19 U.S.C. 2602(a)(1)(D)). The Assistant Secretary also found that the materials described in the determinations meet the statutory definition of “archaeological or ethnological material of the state party” (19 U.S.C. 2601(2)).

The Agreement

On March 15, 2006, the United States and the Government of Colombia entered into a bilateral agreement (the Agreement) pursuant to the provisions of 19 U.S.C. 2602(a)(2) covering certain archaeological materials representing its pre-Colombian cultural heritage and certain ecclesiastical ethnological materials of the Colonial period. Dating from approximately 1500 B.C. to approximately A.D. 1530, the pre-Colombian archaeological materials include, but are not limited to, objects generally associated with the Tairona, Sinu, Uraba, Quimbaya, Muisca, Calima, Malagana, Tolima, Tierradentro, Cauca, San Ugustin, Tumaco, and Narinao cultures, such as ceramic figurines, vessels, and funerary urns; gold and alloy (gold with copper, platinum, or other metals) jewelry; wood, such as tools; bone, such as small implements and jewelry; rock art; and lithics, such as large sculpted stone from the San Agustin Culture. Dating from A.D. 1530 to 1830, the ecclesiastical ethnological materials include, but are not limited to, religious oil paintings; altars and altar pieces, including retablos of wood, gold, and silver; statues of saints (santos); textiles such as liturgical vestments and wall hangings; and objects of paper, parchment, or leather, such as documents and incunabula.

Restrictions and Amendment to the Regulations

In accordance with the Agreement, import restrictions are now being imposed on these archaeological and ethnological materials from Colombia. Importation of these materials, described specifically in the designated list below, are subject to the restrictions of 19 U.S.C. 2606 and § 12.104g(a) of the Customs and Border Protection (CBP) Regulations (19 CFR 12.104g(a)) and will be restricted from entry into the United States unless the conditions set forth in 19 U.S.C. 2606 and § 12.104c of the regulations (19 CFR 12.104c) are met. CBP is amending § 12.104g(a) of the CBP Regulations (19 CFR 12.104g(a)) to indicate that these import restrictions have been imposed.

Material Encompassed in Import Restrictions

The bilateral agreement between the Government of Colombia and the United States covers the categories of objects described in the designated list set forth below. These articles are subject to the import restrictions set forth above, in accordance with the above explained applicable law and the regulation amended in this document (19 CFR 12.104(g)(a)).

Categories of Objects from Colombia Designated for Protection From Importation Into the United States

I. Archaeological Materials (1500 B.C.-A.D. 1530)

I.A. Large Stone Sculptures

I.B. Rock Art

I.C. Ceramic Figurines

I.D. Ceramic Vessels

I.E. Ceramic funerary Urns

I.F. Miscellaneous Ceramic Object Types

I.G. Gold

I.H. Wood

I.I. Portable Stone

I.J. Bone

I.K. Textiles

II. Ecclesiastical Ethnological Materials (A.D. 1530-1830)

II.A. Wooden Items

II.B. Metal Objects, Accoutrements, and Fittings

II.C. Textiles

II.D. Paper, Parchment, Leather

I. Archaeological Materials

The archaeological objects that are covered under this agreement are associated with culture groups that resided in this region from about 1500 BC (late in the Archaic Period), throughout the Formative and Classic Periods, to 1530 AD (late in the Recent Period).

I.A. Large Stone Sculptures

The monolithic sculptures of the San Agustín Culture (1-900 AD) from tombs in Upper Magdalena and the neighboring region in southern and northern Huila, Tierradentro, northern Nariño, the Popayán region, Cundinamarca, Boyacá, and northern Caquetá. Worked primarily in volcanic stone (basalt, tektite, manzonite, and andesite), the tallest statues are up to 3 m. high, with human, avian, and other animal characteristics, carved in low relief and occasionally retaining evidence of pigments.

I.B. Rock Art

Ancient rock art is found throughout Colombia, at sites including Gorgona in Cauca, Mesitas del Colegio in Cundinamarca, San Agustín in Huila, and Sáchica, Sogamoso, Muzo, and Buenavista in Boyacá. Archaeological research has not established a full typology or chronology as yet. The great majority are engravings in low relief (petroglyphs) on the flat surfaces of huge stones or on surfaces of exposed bedrock, some retaining colored pigments.

I.C. Ceramic Figurines

Small sculptures and miniature human and animal figures associated with the Tairona, Muisca, Guane, Tolima, Magdalena Medio, San Agustín, Tierradentro, Nariño, Tumaco, Calima, Malagana, Quimbaya, Cauca, Urabá, and Sinú cultures.

I. c. 1. Cauca and southern Valle. The Popayán style in this region displays highly decorated anthropomorphous figures with zoomorphous appliqués (Height: 20 cm., Width: 13 cm.). Other common forms are the benches on which anthropomorphous figures rest (Height: 7 cm., Width: 10 cm.).

I. c. 2. Guajira. Stylized globular anthropomorphous figures with appliqué features.

I. c. 3. Nariño. This is divided into three types of pottery: Capulí, Piartal, and Tuza. The Capulí pottery presents modeled decoration and black negative resist paint on red. The anthropomorphous figures of coca chewers (coqueros) are characteristic of this style.

I. c. 4. Quimbaya. The Quimbaya anthropomorphous figures are generally seated with their arms extended or holding objects, on occasion wearing a gold or tumbaga nose ring. These objects are usually painted in two or more colors. The dimensions average from 12 to 40 cm. tall and 8 to 30 cm. wide; miniatures of this type are also common.

I. c. 5. San Jorge. The average dimensions of the realistic anthropomorphous and zoomorphous figures characteristic of the Momil Culture are 5 by 4 by 2 cm. The larger figures come in 15 by 10 by 8 cm. sizes, and the smaller ones measure approximately 2 by 2 by 2 cm.

I. c. 6. Tolima. Anthropomorphous figures, some sitting on benches. Their dimensions vary and are usually painted in black negative resist paint on light brown.

I. c. 7. Tumaco. The most characteristic forms of the Tumaco pottery are the anthropomorphous, zoomorphous and anthropo-zoomorphous heads or figures, and masks. Some are modeled, others molded, and others combine the two techniques and reflect attitudes and expressions of daily and supernatural life. The anthropomorphous heads generally display cranial deformation. The sizes vary from 2 to 30 cm. tall.

I.D. Ceramic Vessels

This category is the most common, varied, and widespread. Vessels appear initially in deposits from the Archaic Period (4000 BC-1000 AD) on the Atlantic Coast and from the Formative period (1000 BC-1 AD) countrywide. The decorative styles, the forms, and the typical functions of the ceramic vessels vary between regions and periods. Types of pre-Columbian pottery that are intensely sought and traded illicitly include very elaborate vessels, profusely decorated (incised, modeled, appliqué, and/or painted). They originated particularly in the Formative and Classic (1 AD—900 AD) periods, come from all regions, and were buried with the dead.

I. D. 1. Vessels of the Early Formative Period. The main sites on the Caribbean coast where evidence is found of the Early Formative Period are: Monsú, Puerto Hormiga, San Jacinto, Canapote, Barlovento, Zambrano, Malambo, Momil, and Crespo. The manufacturing technique includes spirals and modeling, with thick-walled vessels and rough surfaces. The most ancient forms show vegetable fiber and sand temper. The most recent forms display ground shell and sand temper, or sand temper. The decoration includes incision and clay slip. The slip ranges from very light brown (or beige) to a darker light brown or reddish. The ceramic figures and forms are profusely decorated with abundant dots and deep incisions. Some vessels come with stamped decorations using seashells. The bowls and the pots generally have anthropomorphous and zoomorphous appliqués on the upper part. The Momil pottery also displays black, white, and red paint.

I. D. 1. a. Early phase bowls and pots from the tradition known as tecomate are globular and semi-globular with inverted edges and wide mouths, and decorated with incised and excised decoration on the upper part; they measure ~ 30 cm. in diameter and ~ 20 cm. in height.

I. D. 1. b. In more recent phases, such as Malambo, they come in assorted forms, including cups with ring-shaped or foot-type supports (Height: ~ 20 cm., Diameter: ~ 15 cm.). There also are plates, clay griddles (budares), and vessels with prominent shoulders.

I. D. 1. c. In Momil, the forms are more varied: narrow-necked and wide everted-edged vessels, compound silhouette cups, globular vessels with downward everted edge, sub-globular downward edge vessels, vessels with mammiform supports, and earthen bowls with base borders.

I. D. 2. Vessels of the Late Formative Period: Coast. On the Pacific Coast, the most representative sites are Tumaco, Monte Alto, Inguapí, El Balsal, Pampa de Nerete, and Cupica (Chocó). On the Atlantic Coast, the sites are Guajira, the Rancheria river valley and part of the Cesar river valley, the Upper Sinú river, the flanks of the Abibe and San Jeronimo Serrania, and the Gulf of Urabá. The chronology of the period is from 1000 BC to the first century AD.

I. D. 2. a. Cupica. The following forms are very common:

I. D. 2. a. i. Semi-globular, sub globular vessels, with everted edge, straight or in a poporo form.

I. D. 2. a. ii. Double-spouted globular or phytomorphous vessels, short-necked sub globular and everted edge vessels.

I. D. 2. a. iii. Globular and phytomorphous cups with ring-shaped support, conical-stemmed cups with punctured supports.

I. D. 2. a. iv. Decoration in Cupica is incised, excised, with appliqué bands forming anthropomorphous and zoomorphous figures, dotted and lentil-shaped appliqués. The slips are generally dark brown with black and red paint.

I. D. 2. a. v. All these vessels vary between a maximum height of 25 cm. and a minimum of 10 cm., a diameter between 25 and 10 cm., and generally the height and diameter are the same size.

I. D. 2. b. Guajira. The ceramic decoration in this region is characterized by spiral or linear motifs, appliqué bands, manufactured by modeling or by rolls. They come in light brown and reddish slips and positive red, black, and white paint. The most common forms are:

I. D. 2. b. i. Globular and sub globular vessels, short or high-necked, wide or narrow mouthed, zoomorphous (Height: 15 cm., Diameter: 20 cm.).

I. D. 2. b. ii. Semi globular cups with globular support (Height: 15 cm., Diameter: 15 cm.).

I. D. 2. c. Sinú (or Urabá). Pottery manufactured by rolls and modeled, with appliqué bands, incisions, dotted, imprints and applying internal pressure. The slip comes in beige, light brown to reddish, and black. The main forms are:

I. D. 2. c. i. Plates, semi globular earthen bowls, globular wide-mouthed and printed edged vessels (Height: 15 cm., Diameter: some 20 cm.).

I. D. 2. c. ii. Printed, horizontal everted-edge cups, evenly punctured crowning support, some with zoomorphous appliqués and with rattles (Height: 15 cm., Diameter: around 15 cm.).

I. D. 2. d. Tumaco—La Tolita. This pottery is characterized by coming in red, brown, or gray slip. Some vessels display zoned white paint. The common forms are:

I. D. 2. d.i. Globular, semi globular, or keel-shaped earthen bowls with slightly inverted or everted edge (Height: 15 cm., Diameter: 20 cm.).

I. D. 2. d.ii. Globular or sub globular vessels, short or high-necked with everted edge, with or without anthropomorphous or zoomorphous appliqués on the body or appliqué bands, with or without double handles on the body (Height: 10 cm., Diameter: 12 cm.).

I. D. 2. d.iii. Semi globular or cylindrical, or keel-shaped cups, with mammiform tripod-shaped supports (Height: 12 cm., Diameter: 18 cm.).

I. D. 2. d.iv. Alcarrazas (double-spouted jug with a bridge handle), in various animal, avian, and human forms.

I. D. 2. d.v. “Canasteros” or anthropomorphous or zoomorphous figures with a cylindrical container in the back part (Height: 15 cm., Diameter: 15 cm.).

I. D. 3. Vessels of the Late Formative Period: Interior. The Interior comprises the lower and mid-Magdalena valley region, the provinces of Cesar, Magdalena, Bolívar, Santander, Antioquia, Boyacá, Cundinamarca, Caldas, Tolima, Huila, Putumayo, the Llanos Orientales (Eastern Plains), and the Amazon. The archaeological cultures represented are Tamalameque and Magdalena Medio, Pijao (in Espinal), Panche (in Ricaurte and Honda), Pantagora (in Guarinó, La Miel, and Puerto Serviez), Mosquito (in Ocaña), and Guayupes (Llanos Orientales).

I. D. 3. a. Amazon. This ceramic slip varies from beige to dark brown and reddish, and different tones of gray; the decoration consists of incisions, dots, brushing, impression, grooves, modeled appliqués, geometric designs in red positive paint and occasionally white, brown. Common forms are:

I. D. 3. a. i. Budares (flat clay griddles) with slightly everted edge, usually holding leaf imprints on the base (Height: approximately 5 cm., Diameter: varies between 34 and 56 cm.).

I. D. 3. a. ii. Cylindrical, “hourglass” supports or in the form of a truncated cone (probably for the griddles); they can be hollow or compact with a flat base (Height: variable, Diameter of the base: varies between 10 and 18 cm.).

I. D. 3. a. iii. Semi globular and keel-shaped everted-edge earthen bowls (Height: 7 cm., Diameter: 20 cm.), globular body, or compound silhouette vessels, flat base, short-necked, everted edge (Height: varies between 7 and 18 cm., Diameter: varies between 15 and 36 cm.).

I. D. 3. a. iv. Anthropomorphous and zoomorphous containers of assorted dimensions, modeled, realistic, and stylized.

I. D. 3. b. Calima. The Formative is represented in Calima by the Ilama pottery, characterized by brushed and/or incised fine decoration, with slip ranging from light to dark brown. Some incisions are filled in with white paste. The common forms are:

I. D. 3. b. i. Simple, anthropomorphous, zoomorphous alcarrazas (double-spouted jug). Average dimensions: Height: 15 cm., Diameter: 15 cm.

I. D. 3. b. ii. Canasteros (anthropomorphous vessels with hollow cylinder in the back part)(Height: 16 cm., Diameter: 10 cm.).

I. D. 3. b. iii. Cylindrical, anthropomorphous, or zoomorphous vessels (Height: 10 cm., Diameter: 7 cm.) and the globular narrow-mouthed and everted edge vessels (Height: 12 cm., Diameter: 16 cm.).

I. D. 3. c. Llanos Orientales (Eastern Plains). Vessels from this are semi globular or compound silhouette earthen bowls, with rounded or flat bases, everted or slightly inverted edges and rounded. Some show triangular or rhomboid mouths and modeled appliqués on the border (Height: 10 cm., Diameter: 20 cm.). The slip is generally reddish and with white positive paint, forming geometrical designs. Common also are globular, semi-globular, sub globular vessels, compound silhouette, keel-shaped, short-necked, everted or straight-edged, rounded or flat based, with or without appliqués, with or without white positive paint (Height: 15 cm., Diameter: 18 cm.).

I. D. 3. d. Putumayo (Guamués). The diagnostic feature of this type is a decoration with visible coils, and corrugated decoration with fingerprints, or corrugated with different imprints. The colors of the slip range from gray to reddish brown. The common forms are globular and sub globular with straight neck and everted edge (Height: 20 cm., Diameter: 30 cm.).

I. D. 3. e. Tamalameque, Mosquito and Chimila. In this zone, we find vessels of various forms associated with burials. The most common forms are the globular narrow-necked vessels, everted-edged, and with incised decoration forming a rhombus. There are also anthropomorphous vessels with ring-shaped supports and very realistic anthropomorphous modeled figures. Multi-colored zoomorphous vessels with geometrical designs, narrow necks, and everted edges have also been found in Ricaurte.

I. D. 4. Vessels from the Classic and Recent Periods. The formation and consolidation of chiefdoms started in these periods, with regional political units and populated towns. The principal chiefdoms in the Classic period are in Magdalena (Sierra Nevada de Santa Marta), Cordoba, Santander, Cundinamarca, Boyacá, Caldas Risaralda, Quindío, Huila, Valle, Cauca, and Nariño. The archaeological cultures represented are Tairona, Sinú, San Jorge, Guane, Muisca, Quimbaya, Calima, San Agustín, Tierradentro, and Nariño.

I. D. 4. a. Calima. The Classic Period in Calima corresponds to Yotoco pottery, with its characteristic decoration in black negative resist paint on red, orange or white wash, and curvilinear designs. They occasionally carry appliqués. The most common forms are:

I. D. 4. a. i. Simple alcarrazas, anthropomorphous, phytomorphous with ring-shaped, tetrapod or tripod-shaped support (Height: 15 cm., Diameter: 15 cm.).

I. D. 4. a. ii. Whistling Alcarrazas, which could be either simple or double. The dimensions of the simple ones are the same as the double-spouted alcarrazas. The double ones have the same average height and an average length of 20 cm.

I. D. 4. a. iii. Earthen bowls with flat or rounded base. The negative resist paint is apparent inside and outside (Height: 8 cm., Diameter: 15 cm.).

The Recent Period in Calima encompasses Sonso pottery, characterized by decoration in the form of negative black paint on red or orange wash, with a linear design or light brown to reddish light brown slip. They display appliquéd incised bands. The most common forms of the Sonso style are:

I. D. 4. a. iv. Semi globular earthen bowls (Height: 10 cm., Diameter: 15 cm.).

I. D. 4. a. v. Pitchers with three horizontal handles set irregularly on the vessel's body. The neck is phytomorphous or anthropomorphous (Height: 24 cm., Diameter: 22 cm.).

I. D. 4. a. vi. Other common forms are cups with incised brushing and appliqué decoration (Height: 12 cm., Diameter: 16 cm.).

I. D. 4. b. Cauca and southern Valle. We find three pottery styles: Quebrada Seca or Corinto, Río Bolo, and Popayán. In the Quebrada Seca and Río Bolo vessels, the pottery surface is fine and polished with red slip, exception made to the top part of the vessel that conserves the paste's natural color. It generally holds stylized anthropomorphous modeled appliqués and incisions on the top part, on the border between the slip and the paste. Sometimes, the body displays incisions around and on the border. Some vessels come in unpolished surfaces, and totally brushed with wide, deep, and intersecting lines. The Popayán style is characterized by the use of modeling. The most common forms are:

I. D. 4. b. i. Semi globular or globular earthen bowls, with straight border, inverted border, or externally reinforced border, sometimes with two handles. (Height: 7 cm., Diameter: 16 cm.).

I. D. 4. b. ii. Semi-globular, sub-globular, globular cups in bell-form, short, medium-sized and tall supports, and straight, inverted, reinforced, everted borders, with or without small handles.

I. D. 4. b. iii. Triple cups on only one support (Height: 15 cm., Diameter: 16 cm.), globular, sub-globular, aribaloide (high-necked, oval-shaped urn type) vessels, narrow-necked, everted, reinforced, straight border, with a flange, with or without false handles. (Height: 15 cm., Diameter: 15 cm.).

I. D. 4. b. iv. Mocasines (shoe shaped) vessels, squash gourds, different-sized zoomorphous and anthropomorphous figures.

I. D. 4. c. Guane. A characteristic of this pottery is that it has light brown, orange and dark brown slips. The decoration consists of linear, spiral, dotted incisions and geometric designs. It also displays band appliqués, molded in anthropomorphous and zoomorphous figures. On the orange slips, the designs are painted in red and/or white, inside or outside. The principal Guane forms are:

I. D. 4. c. i. Semi globular earthen bowls with straight or slightly inverted border (Height: 9 cm., Diameter: 15 cm.) and cups with straight borders, slightly inverted or everted, with low ring-shaped support. Some cups show internal and external decoration, displaying appliqué zoomorphous figures, particularly frogs (Height: 10 cm., Diameter: 15 cm.).

I. D. 4. c. ii. Double or triple earthen bowls joined by a lower bridge and an upper bridge handle; the latter can represent a zoomorphous figure (Height: 10 cm., Length: 24 cm.).

I. D. 4. c. iii. Globular and sub globular pots with inverted border. Some display upper bridge handles and others display two or more rounded handles located on the border of the body; other handles can be placed horizontally on the body (Height: 15 cm., Diameter: 20 cm.).

I. D. 4. c. iv. Globular vessels with low ring-shaped support, short and narrow-necked, slightly everted border, coming with two or more handles from border to body (Height: 15 cm., Diameter: 13 cm.) and sub globular narrow-necked vessels with slightly everted border, and with two opposing handles from border to body, or neck to body (Height: 25 cm., Diameter: 20 cm.).

I. D. 4. c. v. Globular, sub globular, and keel-shaped pitchers, short-necked and long, occasionally displaying anthropomorphous appliqué or painted decoration, straight and slightly everted borders, flat rounded handles from border to body, or neck to body (Height: 25 cm., Diameter: 23 cm.), occasionally portraying this form in miniature or in double vessels joined by lower and upper bridges. Some come with two and three necks for the same body.

I. D. 4. c. vi. Keel-shaped vessel, narrow and short necked with two opposing handles ending in an inverted form with a very narrow mouth (Height: 20 cm., Diameter: 21 cm.).

I. D. 4. c. vii. Barrel-shaped vessels in a horizontal position, narrow and short-necked with opposing handles, separating from the middle of the body. On some occasions, they display appliqué zoomorphous motifs and hollow cylindrical supports with painted decoration, forming linear and spiral geometrical motifs.

I. D. 4. d. Malagana. This seems to be a local style of the Calima macro-region, because it has very similar vessels to the complex Calima pottery. It is characterized by the use of modeled and negative black and white paint on red. Some vessels display fine incisions and black and light brown slips as decoration. The most common forms of Malagana Vessels are:

I. D. 4. d. i. Semi-globular, globular, and keel-shaped earthen bowls, with mammiform or tubular supports.

I. D. 4. d. ii. Anthropomorphous cups with the figure kneeling down (Height: 16 cm., Diameter: 12 cm.).

I. D. 4. d. iii. Globular, oval, compound, phytomorphous, anthropomorphous and zoomorphous, single or double-spouted alcarrazas (Height: 20 cm., Diameter: 18 cm.).

I. D. 4. d. iv. Realistic zoomorphous containers in very varied dimensions depending on the figure.

I. D. 4. e. Muisca. The main Muisca forms are:

I. D. 4. e. i. Semi globular earthen bowls with straight or slightly inverted border, their decoration black and/or red paint or incised, forming geometric designs.

I. D. 4. e. ii. Semi globular earthen bowls, with flat keel-shaped border portraying lentil-shaped, zoomorphous, spiral and appliqué figures, with dotted decoration and two rounded handles or a bridge handle. The pottery comes in black (Height: 10 cm., Diameter: 15 cm.).

I. D. 4. e. iii. Straight border cups, slightly everted, with short or tall ring-shaped support and with the painted geometric decoration usually at the top. On the external part, they display appliqué or painted serpent-like motifs. Occasionally, the border comes with zoomorphous and anthropomorphous appliqués. The most recurrent decoration colors are white and red (Height: 10 cm., Diameter: 15 cm.). Occasionally, there are double cups joined together by bridges.

I. D. 4. e. iv. Globular and sub globular pots with inverted border, the decoration of which consists of red geometric and linear designs. Their characteristic is to have multiple handles; some can even have decorated handles at the top (Height: varies between 10 and 40 cm., Diameter: 15 to 45 cm.).

I. D. 4. e. v. Sub globular or keel-shaped pitchers, narrow-necked and with straight or slightly everted border, and with one or two flat opposing handles from neck to body. Occasionally, they display representations of anthropomorphous faces, or dotted or striped incisions in the neck, and false handles. Colors vary from red and white to grey and white (Height: 23 cm., Diameter: 18 cm.).

I. D. 4. e. vi. Globular, sub globular, and keel-shaped short-necked pitchers, with straight everted borders, flat or rounded handles from border to body, or neck to body (Height: 20 cm., Diameter: 22 cm.). The decoration consists of linear design with red or gray and white paint.

I. D. 4. e. vii. Globular, sub globular, or keel-shaped múcuras, very narrow and tall, with a flat handle from neck to body. The neck generally displays appliqué or painted anthropomorphous and zoomorphous figures, occasionally with false handles; the paint can cover the top part of the vessel's body. Dimensions vary (Height: minimum of 10 cm. to 50 cm., Diameter: 12 cm. to 40 cm.). Occasionally, there can be double múcuras joined by bridges or mucuras with two necks.

I. D. 4. e. viii. Barrel-shaped vessels in a horizontal position, narrow and short-necked with opposing handles separated from the body; on some occasions they have appliqué anthropomorphous or zoomorphous motifs (Height: 20 cm., Width: 24 cm.). Hollow cylindrical supports with painted decoration forming geometric motifs with lines and spirals.

I. D. 4. e. ix. Mocasines (shoe shaped) vessels, generally black, come with a lateral handle from border to body or neck to body. The decoration is appliqué with zoomorphous motifs and dotted incisions. The dimensions vary (Height: 9 to 15 cm., Width: maximum between 10 and 20 cm.).

I. D. 4. e. x. Offertories, or hollow anthropomorphous figures, with an opening in the front or back or on the top. They are modeled figures with incised, dotted and appliqué decoration, displaying great diversity in their attire, especially the head ornaments. On some occasions, these figures have one or more anthropomorphous figures or smaller-sized vessels. The slip varies in tones of brown and occasionally comes in red linear paint. The dimensions are very varied, ranging from a height of 40 cm. to 11 cm. approximately. There also are circular offertories, occasionally showing anthropomorphous figures on the body with simple flat or anthropomorphous lids with similar characteristics to the previous ones. The latter have an average height of 15 cm.

I. D. 4. f. Nariño. This pottery comes in two types: Capulí, and Piartal-Tuza.

The Capulí pottery displays modeled decoration and negative black paint on red. Cups are its most characteristic form. The common forms are:

I. D. 4. f. i. Globular, semi globular, and square cups, their supports are short, medium, and tall ring-shaped. They occasionally come with modeled anthropomorphous figures supporting the cup. The borders are straight, everted, or slightly inverted (Height: 10 cm., Diameter: 13 cm.).

I. D. 4. f. ii. Semi globular earthen bowls (Height: 8 cm., Diameter: 16 cm.). Some earthen bowls have an upper bridge handle, in the form of a basket. Occasionally, they come in double or triple vessels.

I. D. 4. f. iii. Globular vessels with or without a narrow neck and a wide mouth, everted border, or flanges.

I. D. 4. f. iv. Keel-shaped and lentil-shaped vessels with everted border. Some vessels have three or four light supports attached by internal pressure. These forms can have a flange at the center of the body. Others have serpent-like bands appliquéd vertically.

I. D. 4. f. v. Tripod-shaped globular vessels or ones with zoomorphous modeled figures forming the border.

I. D. 4. f. vi. Globular, lentil-shaped, or keel-shaped vessels with lentil-shaped appliqués set on the greatest diameter (Height: 8 cm., Diameter: 12 cm.).

I. D. 4. f. vii. Sub globular vessels with narrow neck and straight border, low ring-shaped support.

I. D. 4. f. viii. Zoomorphous or anthropomorphous vessels depicting an animal or human seated on a bench with its legs crossed or extended, chewing coca, or with an open mouth. The dimensions are very varied, and they depend on the theme represented. Some are miniatures.

I. D. 4. f. ix. The Piartal-Tuza pottery is characterized by having red, orange and/or black on brown paint decoration with many stylized representations of fauna, anthropomorphous figures, or geometric designs. Its most characteristic forms are:

I. D. 4. f. x. Dishes with low ring-shaped support (Height: 7 cm., Diameter: 14 cm.).

I. D. 4. f. xi. Semi globular earthen bowls (Height: 6 cm., Diameter: 15 cm.).

I. D. 4. f. xii. Globular vessels, narrow-necked, wide-mouthed, neck slightly everted and short, with tripod-shaped or tetrapod support achieved by internal pressure (Height: 8 cm., Diameter: 13 cm.).

I. D. 4. f. xiii. Cups with low ring-shaped support, straight or everted border, with one or two handles (Height: 12 cm., Diameter: 14 cm.).

I. D. 4. f. xiv. Globular vessels, short-necked, everted border, wide-mouthed (Height: 15 cm., Diameter: 17 cm.); the globular, keel-shaped or lentil-shaped vessels are very short-necked and have a slightly everted or straight border (Height: 7 cm., Diameter: 10 cm.). These Vessels also come with tripod-shaped support, or low ring-shaped support, sometimes with a flange in the center of the vessel.

I. D. 4. f. xv. Square or rectangular earthen bowls having low ring-shaped support (Height: 5 cm. Width: 7 cm.).

I. D. 4. f. xvi. Amphorae with aribaloide (high-necked, oval-shaped urn) or flat bases, with or without handles (Height: varies between approximately 20 cm. and 120 cm., Diameter: varies between 15 cm. and 50 cm.).

I. D. 4. f. xvii. Small pitchers, with a handle, globular, sub globular or cylindrical body, flat, rounded, or with low ring-shaped support bases (Height: 10 cm., Diameter: 8 cm.).

I. D. 4. f. xviii. Compound silhouette “Piartal” vessels, keel-shaped, very narrow and long necked, everted border, rounded base and diverse geometric designs in brown, black or red on cream positive paint (Height: 25 cm., Diameter: 30 cm.).

I. D. 4. f. xix. “Tuza” vessels, sub-globular, conical, cylindrical, with short neck, straight or everted border, flat or rounded bases with low ring-shaped support, and diverse designs in positive paint (Height: varies between approximately 20 cm. and 90 cm., Diameter: varies approximately between 15 cm. and 50 cm.).

I. D. 4. f. xx. Dishes with low ring-shaped support and design in anthropomorphous and zoomorphous positive paint, especially monkeys, deer, birds, and feline figures.

I. D. 4. f. xxi. One variant of the Piartal-Tuza pottery is the “Quillacinga” style, with white on red paint decoration, in geometric design. Its main forms are low ring-shaped support dishes, globular vessels with lentil-shaped, globular, or keel-shaped appliqués, short-necked and slightly everted border and globular with narrow neck and everted border.

I. D. 4. g. Quimbaya. Classic forms of Quimbaya pottery vessels from the mid-Cauca river zone are decorated with black on red and orange negative resist paint, forming linear designs (cups, vessels, figures). The classic forms include sub-globular keel-shaped bowls and globular keel-shaped and square vessels. They may be decorated with excised decoration covering the entire outer surface, or with incisions or appliqués, using light brown slips (Height: 8 cm., Diameter: 16 cm.). The most common forms are:

I. D. 4. g. i. Rectangular rounded-base vessels with anthropomorphous appliqués on the borders, incised linear decoration, red on cream and orange paint (Height: 10 cm., Width: 20 cm., Length: 30 cm.). With similar colors in linear and circular design inside, everted border earthen bowls. On the outside, they generally have incised decoration, dotted and appliqué bands (Height: Varies between 7 and 10 cm., Diameter: the average is 20 cm.).

I. D. 4. g. ii. Sub globular vessels with narrow, short necks, some with two mouths and two handles (Height: 15 cm., Diameter: 13 cm.).

I. D. 4. g. iii. Keel-shaped vessels, wide-mouthed and with two handles decorated with linear designs in red paint (Height: 10 cm., Diameter: 12 cm).

I. D. 4. g. iv. Semi globular earthen bowls with inverted or slightly everted border (Height: 10 cm., Diameter: 15 cm.).

I. D. 4. g. v. Truncated cone-shaped, flat-based cups (Height: 20 cm., Diameter: 18 cm.).

I. D. 4. g. vi. Truncated cone-shaped cups with bell-shaped support (Height: 15 cm., Diameter: 16 cm.). A variation of these cups is a semi globular body with appliqué white paint in linear form that overhangs the surface (Height: 15 cm., Diameter: 18 cm.).

I. D. 4. g. vii. Amphorae (Height: Average between 20 and 60 cm., Diameter: between 15 and 40 cm.).

I. D. 4. g. viii. Small squash-type gourds (Height: 10 cm., Diameter: 11 cm.).

I. D. 4. g. ix. Anthropomorphous, zoomorphous, and phytomorphous alcarrazas decorated with negative resist three-colored paint (Height: 15 cm., Diameter: 15 cm.).

I. D. 4. g. x. Bottles with stirrup handle (Height: 29 cm., Diameter: 14 cm.). Hollow cylindrical supports, with lower and upper everted border (Height: 16 cm., Diameter: 14 cm.). Cups decorated with incisions or appliqués (Height: 12 cm., Diameter: 16 cm.).

I. D. 4. g. xi. Globular, sub globular pots, with flanges decorated with appliqués and/or incisions (Height: 15 cm., Diameter: 20 cm.).

I. D. 4. g. xii. Simple incised alcarrazas (Height: 19 cm., Diameter: 15 cm.).

I. D. 4. g. xiii. Vessels with black coloring, including rhomboid vessels with a flat base, everted border, round or square-mouthed and decorated with appliqué anthropomorphous incised bands. Their very diverse dimensions range from 10 cm. to 20 cm., and from 8 cm. to 25 cm. Sometimes they are elongated; at other times they are wider.

I. D. 4. g. xiv. Elongated vessels in the form of a sail, with appliqué incised bands (Height: 10 cm., Length: 30 cm).

I. D. 4. h. San Agustín. The vessels of this culture display varying slips in differing tones from brown to black with incised decoration in lines, triangles, and dots. Others come in negative resist black paint on red with geometric motifs. A characteristic of the pottery forms is the presence of an everted border inclined downwards. Very common are:

I. D. 4. h. i. Dishes with everted border (Height: 5 cm., Diameter: 15 cm.).

I. D. 4. h. ii. Globular, semi-globular, sub globular earthen bowls, keel-shaped with straight, everted, or slightly everted border (Height: varies between 8 and 20 cm., Diameter: varies between 10 and 30 cm.).

I. D. 4. h. iii. Globular pots and compound silhouette with everted border (Height: 20 cm., Diameter: 20 cm.).

I. D. 4. h. iv. Globular vessels with tripod-shaped everted border (Height: 20 cm., Diameter: 18 cm.).

I. D. 4. h. v. Keel-shaped, globular, and sub globular vessels, narrow-necked and wide-mouthed and everted border (Height: ranging from 50 to 15 cm., Width: from 30 cm. to 10 cm.).

I. D. 4. h. vi. Globular and semi globular cups with tubular support and horizontal everted border (Height: 18 cm., Diameter: 15 cm.).

I. D. 4. h. vii. Simple anthropomorphous alcarrazas (Height: 12 cm., Diameter: 12 cm.).

I. D. 4. h. viii. Double vessels joined together by upper and lower bridge handles (Height: 20 cm., Length: 30 cm.).

I. D. 4. i. San Jorge. The manufacturing technique is spiraled and modeled, with incised decoration, dots, notches, extensive bands, and zoomorphous appliqués. The wide range of browns on this pottery's slip goes from light to dark reddish. The vessels displaying paint use red, forming geometric designs. The texture is granular and sometimes cracked for First Occupation period pottery. By the Second Occupation period, the texture becomes compact and fine.

In the Classic Period:

I. D. 4. i. i. Cups with tall, short, and bell-shaped supports.

I. D. 4. i. ii. Cups with lids.

I. D. 4. i. iii. Cups with narrow mouths.

I. D. 4. i. iv. Cups with keel shapes (Height: 15 cm., Diameter: 15 cm.).

I. D. 4. i. v. Alcarrazas, baskets, globular vessels, globular vessels with ring-shaped support (Height: 15 cm., Diameter: 20 cm.).

The main forms from the Second Occupation period are:

I. D. 4. i. vi. Globular and sub globular vessels (Height: 15 cm., Diameter: 20 cm.).

I. D. 4. i. vii. Cups with low pedestal support and an average diameter of 15 cm. Some cups are approximately 30 cm. high.

I. D. 4. j. Sinú. The ceramic vessels come in a diversity of forms. The main ones are:

I. D. 4. j. i. High pedestal cups with incised and excised decoration, forming geometric designs, especially rhombus (Height: 25 cm., Diameter: 10 cm.).

I. D. 4. j. ii. High pedestal cups with appliqué modeled anthropomorphous figures, with incised decoration. They frequently represent standing female figures (Height: 25 cm., Diameter: 10 cm.).

I. D. 4. j. iii. Cups with perforated compound supports, the globular vessels with a flat base, neck, and everted border with female figures attached to the body, and sub globular vessels with ring-shaped support.

I. D. 4. j. iv. Compound silhouette vessels and also globular narrow-necked vessels, with everted border and black and red on cream decoration, forming a linear design, or with anthropomorphous appliqués (Height: 30 cm., Diameter: 30 cm.) The ceramic slip, also called “Betancí,” is light brown, beige, and very light beige.

I. D. 4. k. Tairona. The Tairona manufacturing technique is by rolls and modeled. The slips are beige, gray, black, dark brown, and reddish brown. They also display linear incisions, dotted, zoomorphous, and anthropomorphous appliqués, and appliqué bands. The black and the beige Tairona pottery typically comprise principally ceremonial vessels, whereas the red pottery includes domestic forms. The common forms are:

I. D. 4. k. i. Globular vessels, wide-mouthed and everted border.

I. D. 4. k. ii. Globular vessels, narrow-necked and everted border.

I. D. 4. k. iii. Keel-shaped vessels, wide-mouthed.

I. D. 4. k. iv. Globular vessels, high neck and low ring-shaped support (Height: 20 cm., Diameter: 20 cm.).

I. D. 4. k. v. Semi globular cups with ring-shaped support.

I. D. 4. k. vi. Keel-shaped cups with stylized, high, medium, and low support, especially the tallest ones (Height: 20 cm., Diameter: 15 cm.).

I. D. 4. k. vii. Globular and keel-shaped vessels with ring-shaped support, wide-mouthed, side spout and upper bridge handle, sometimes displaying zoomorphous appliqués at the top, opposite the spout (Height: 15 cm., Diameter: 15 cm.).

I. D. 4. k. viii. Double vessels joined by a bridge at the bottom with an upper bridge handle, generally with appliqués on the body.

I. D. 4. k. ix. Vessels elongated horizontally with a zoomorphous representation on each end; a narrow and short neck is in the center of the vessel, and the support is ring-shaped (Height: 15 cm., Length: 25 cm.).

I. D. 4. k. x. Zoomorphous and anthropo-zoomorphous (depicting both human and animal characteristics) tetrapod vessels with narrow neck (Height: 10 cm., Length: 20 cm.).

I. D. 4. l. Tierradentro. The ceramic vessels of this archaeological culture are similar in form and decoration to the San Agustín pottery. The most representative vessels of this region are funerary urns with brown, red, and negative resist paint slips, decorated with incised dotted decoration forming triangles filled-in with white paste and/or modeled appliqués in zoomorphous, especially serpent-like figures. Their dimensions vary (Height: 20 to 50 cm., Diameter: 25 and 40 cm.). Another special Tierradentro form is the anthropomorphous mask and alcarraza.

I. D. 4. m. Tolima. This pottery displays anthropomorphous and zoomorphous motifs that are modeled, appliqué, incised, carved, and/or stamped. The slips come in light and dark brown and reddish brown. Some objects have a geometric design decoration in black on light brown or red negative resist paint. The common forms are:

I. D. 4. m. i. Semi globular, keel-shaped earthen bowls, compound silhouette, some with two handles, straight, everted, inverted or compound borders, abundant decoration (Height: 5 cm., Diameter: 10 cm.).

I. D. 4. m. ii. Globular, sub globular, keel-shaped vessels, with flanges in the center of the body, short-necked, wide-mouthed, direct or everted borders, flat or rounded bases, with or without handles, with abundant decoration. Some have tetrapod or tripod-shaped supports and others are phytomorphous (Height: 15 cm., Diameter: 18 cm.).

I. D. 4. m. iii. Semi globular cups, everted border, tall supports generally perforated at intervals (Height: varies between 8 cm. and 35 cm., Diameter: varies between 15 cm. and 32 cm.).

I. D. 4. m. iv. Alcarrazas with straight spouts (Height: 15 cm., Diameter: 18 cm.) with phytomorphous and zoomorphous motifs and those depicting figures of houses.

I. D. 4. m. v. In the Guaduas, Tolima region, globular or keel-shaped vessels, the top tubular bifurcated part ending in an anthropomorphous or zoomorphous figure (Height: 20 cm., Diameter: 18 cm.).

I.E. Ceramic Funerary Urns

This category of ceramic artifacts consists of a great variety of objects whose function was to contain human remains in secondary burials. They are either alone in the tombs or with funerary accoutrements. They contain, in the untouched deposits, complete human bones or fragments of bones from one or more individuals.

I. E. 1. Buga, Cumbre, Pavas, and Guabas. This pottery relates to the Sonso style, with brown slip and white and red paint whenever present. Some have appliqués with anthropomorphous designs. It consists of cylindrical, globular, and sub globular funerary urns (Height: 70 cm., Diameter: 40 cm.). Another characteristic form is cylindrical vessels with four handles (Height: 20 cm., Diameter: 15 cm.).

I. E. 2. El Espinal, Ricaurte, Honda, and Girardot (Panche and Pijao). These funerary urns for secondary burials come in sub globular inverted-necked, with dish-form lids. The urns generally represent a human face with modeled bands. Some urns are multi-colored, displaying geometric designs in red and black. Others depict zoomorphous modeled and appliqué figures. The dimensions of these urns are similar to the previous ones. Their lids have the following dimensions: about 6 cm. high and 20 cm. wide.

I. E. 3. Guajira. Globular and conical-stemmed funerary urns (Height: 30 cm., Diameter: 30 cm.).

I. E. 4. La Miel, Guarinó, and Puerto Serviez (Pantágora). These urns are oval-shaped in diverse variants; some are cylindrical and short-necked with a wide mouth. The decoration is linear incised at the top, occasionally forming a rhombus. It is dotted, in between parallel lines. A characteristic of the La Miel river urns is that they have anthropomorphous and zoomorphous figures attached, embracing the neck of the urn. The lids are sub globular, with incised and dotted decoration, forming geometric designs. The anthropomorphous figures are attached, sitting on benches with their hands on the rolls or holding earthen bowls or cups in one or both hands. In some, small, perforated shell discs are attached on the figures of the La Miel lids. Other lids come with zoomorphous, preferably ornitomorphous, figures in sets of two or more. The dimensions of the urns range from the largest (Height: 55 cm., Diameter: 42 cm.) to the smallest (Height: 20 cm., Diameter: 20 cm.). The average lid size is (Height: 20 cm., Diameter: 20 cm.).

The Puerto Serviez urns display gray shaded slips, and others come in different tones of brown to reddish brown slips.

I. E. 5. Llanos Orientales (Eastern Plains). The urns of this region are generally cylindrical, with flanges, or sub globular, compound silhouettes, straight borders, generally flat bases, white positive paint and anthropomorphous or zoomorphous appliqués modeled on the body or on the border (Height: 35 cm., Diameter: 30 cm.). The urns have appliqué zoomorphous decoration (especially bat figures). The slip is usually reddish and with red positive paint, forming geometric designs.

I. E. 6. Putumayo. The main forms of Putumayo funerary urns are sub globular, with straight neck and everted border (Height: 66 cm., Diameter: 65 cm.).

I. E. 7. Quimbaya. Quimbaya pottery is found in mid-Cauca river zone (Cauca Medio). The earliest forms in the zone are associated with the pottery known as Marrón Inciso (incised brown), the most common forms of which are cylindrical funerary urns with rounded base, modeled borders, and incised decoration in the form of a fishbone. Also common are urns with anthropomorphous appliqués and phytomorphous urns. This ceramic slip is black and brown. The dimensions vary from (Height: 20 to 40 cm., Diameter: 34 and 15 cm.).

I. E. 8. Sinú. Sub globular funerary urns with slightly everted border and perforated ring-shaped support (Height: 25 cm., Diameter: 20 cm.). A variant of this urn type averages 80 cm. in height.

I. E. 9. Tairona. These funerary urns are common: Globular and sub globular, short and wide-necked, with anthropomorphous appliqués on the neck and body, sometimes with low ring-shaped support (Height: 70 cm., Diameter: 60 cm.).

I. E. 10. Tamalameque, Mosquito, and Chimila. These urns for secondary burials have anthropomorphous lids. The urns in general are cylindrical, with flat or circular bases and straight or slightly inverted border. Mosquito urns are occasionally oval-shaped. Some come with zoomorphous modeled and incised appliqués on the top, like false handles.

The Tamalameque lids are semi globular, with a human figure attached on the top, represented by the head and torso. The head is generally full-sized and very realistic. The heads come in two types: One is modeled in two dimensions with a straight outline, small extended arms to the sides with open hands; the second head type has a hollow inside and is more realistic. The arms are in various positions.

The Mosquito lids have complete anthropomorphous representations, seated on benches and with their hands resting on their knees. Occasionally, the figures are decorated with zoomorphous motifs.

The bigger urns are approximately 50 cm. high and with a diameter of approximately 31 cm. The smallest ones are approximately 20 cm. high and with a diameter of approximately 18 cm.

The average size of the lids is: Height: 38 cm., Diameter: 30 cm.

The manufacturing technique used in these urns was modeling; the slips vary from light brown to reddish tones, some displaying white paint.

Outstanding in Chimila pottery are the funerary urns, with anthropomorphous modeled figures, represented in the lid—which pertains to the head—and the body—which pertains to the extremities (Height: 20 cm., Diameter: 18 cm.).

I. E. 11. Tumaco—La Tolita. Sub globular with everted border urns (Height: 50 cm., Diameter: 50 cm.).

These containers show fine, linear incisions at the top.

I.F. Miscellaneous Ceramic Object Types

This category contains the articles that do not fit in the Figurines, Vessels, or Urns Categories. It includes materials from cultures from around the country:

I. F. 1. Calima. The Sonso style of Calima pottery is seen in anthropomorphous masks and some miniatures, particularly in the Recent Period.

I. F. 2. Guajira. Zoomorphous Mocasines (shoe shaped) vessels are frequent (Approximate length: 15 cm.).

I. F. 3. Nariño. Ocarinas (whistles) are common in snail form, sometimes with modeled anthropomorphous or zoomorphous representations on one of their ends. The painted designs are diverse, as well as their dimensions. The average length is about 7 cm.

I. F. 4. Quimbaya. Diverse forms of spindle whorls are common, some are hollow and some are rattles with incised decoration filled in with white paste. Their average dimensions are: Height: 3 cm., Diameter: 5 cm. Seals are flat as well as cylindrical, both hollow and solid. They have excised decoration in geometric designs. Common also are Mocasines (shoe shaped) vessels with appliqué decoration (Height: 10 cm., Length: 15 cm.).

I. F. 5. San Jorge. Rolls, spindle whorls and anthropomorphous figures. The latter's average dimensions are 10 x 8 x 4 cm. Likewise, miniature pottery with average dimensions of 4 x 3 cm.

I. F. 6. Sinú. Lavishly decorated earthen bowl miniatures. Also Mocasines (shoe shaped) vessels, rolls, and spindle whorls.

I. F. 7. Tairona. Anthropomorphous and zoomorphous whistles, especially birds, feline figures, and bats (Height: 5 cm.).

I. F. 8. Tumaco. Tabloid graters in different forms, like fish and others, as well as representations of small dwellings, and seals and molds for pottery production.

I.G. Gold

This category comprises objects of gold and of alloys that include gold with copper, platinum, or other metals, dating mostly to the Classic and Recent Periods and associated with the following culture groups: Calima, Muisca, Nariño, Quimbaya, Sinú, Tairona, Tolima, Tumaco, Cauca, Tierradentro, and San Agustín. Figurative pieces are characterized by elaborate and well-executed work; they represent animal and human forms, as well as supernatural beings. They were produced and decorated using the following techniques: Embossing, soldering, hammering, lost wax casting, no-nucleus melting, stone matrix mold melting, solid no-nucleus melting, sheet fusion, and wire filigree. Examples of articles made in gold and gold alloys include: Beads, Bells, Belts, Bracelets and Anklets, Pectorals and Pendants, Ceremonial Staffs and Finials, Combs, Containers, Mesh, Crowns and Helmets, Ear and Nose Ornaments, Animal and Human Figures, Finger Ornaments, Fishhooks, Gold Casting Paste, Knobs, Lime Containers, Lip Plugs, Masks, Musical Instruments, Necklaces, Needles and Pins, Pincers and Tweezers, and Wire.

I.H. Wood

This category refers to articles carved in hard woods, mainly small benches and chairs, staffs, needles, weavers' tools, sarcophagi, chonta palm wooden swords (especially in the Calima and San Agustín regions), and anthropomorphous sculptures in hard woods (particularly in the Muisca region). They are in evidence from all archaeological periods.

I.I. Portable Stone

Carved and polished archaeological stone articles in Colombia are common and varied. Lithic articles come from tombs and other types of storage from all periods, ranging from the Paleo-Indian to the Colonial era. The most common stone artifacts that are looted and traded on the illicit market are flat decorative pendants, tabular necklace beads, ritual monolithic hand axes, hoes, and other small hard polished stone articles mainly from the Calima, Tairona, Guane, Muisca, and Alto Magdalena regions.

I.J. Bone

Articles carved from animal bone, from all archaeological periods. They are in the form of needles, netting hooks, musical instruments (flutes), and beads, or pendants (especially in the Muisca, Guane, Calima and San Agustín regions).

I.K. Textiles

The majority of archaeological textiles found in Colombia originate in human burial offerings. These textiles were made mainly on looms, utilizing cotton, sometimes dyed, as the raw material. They come from the Muisca, Guane, and Nariño Classic periods. In Nariño, they also include additions in metal like tumbaga and gold.

II. Ecclesiastical Ethnological Materials

The categories of Colombian ethnological materials excluded from importation into the United States comprise objects that were made between A.D. 1530 and 1830, with ecclesiastic purpose or association, under the stewardship of the Church.

II.A. Wooden Items

II. A. 1. Paintings on wood panels (depicting religious and symbolic themes).

II. A. 2. Sculpture (polychrome on gesso preparation over wood, including dressed and dressable figures used in religious settings).

II. A. 3. Crucifixes.

II. A. 4. Altarpieces.

II. A. 5. Retablos (carved altar screens).

II.B. Metal Objects, Accoutrements & Fittings (Gold, Silver, and Other Metals)

II. B. 1. Paintings with religious motifs on metal panels.

II. B. 2. Chalices, pitchers, and drinking cups used for religious ceremonies.

II. B. 3. Urns and custodia (monstrances) used to display the communion wafer.

II. B. 4. Processional or stationary crosses.

II. B. 5. Head pieces, wings, and other accoutrements from statues or effigies.

II. B. 6. Candlesticks and candelabra.

II. B. 7. Plaques.

II.C. Textiles

II. C. 1. Garments, such as vestments and tunics worn by clergy (often embroidered with silver and gold threads, with stone appliqués).

II. C. 2. Altar hangings and altar garments.

II. C. 3. Tapestries and carpets.

II. C. 4. Paintings on cloth.

II.D. Paper, Parchment, Leather

II. D. 1. Unique letters, artwork, documents, and manuscripts on paper, parchment, or leather.

II. D. 2. Incunabula (books made before printing, such as hymnals and other Colonial-era books, usually with special bindings).

Signing Authority

This regulation is being issued in accordance with § 0.1(a)(1) of the CBP Regulations (19 CFR 0.1(a)(1)).

Inapplicability of Notice and Delayed Effective Date

Because this amendment to the CBP regulations imposing import restrictions on the above-listed cultural property of Colombia is being made in response to a bilateral agreement entered into in furtherance of a foreign affairs function of the United States, pursuant to section 553(a)(1) of the Administrative Procedure Act, (5 U.S.C. 553(a)(1)), no notice of proposed rulemaking or public procedure is necessary. For the same reason, a delayed effective date is not required pursuant to 5 U.S.C. 553(d)(3).

Regulatory Flexibility Act

Because no notice of proposed rulemaking is required, the provisions of the Regulatory Flexibility Act (5 U.S.C. 601 et seq.) do not apply. Accordingly, this final rule is not subject to the regulatory analysis or other requirements of 5 U.S.C. 603 and 604.

Executive Order 12866

This amendment does not meet the criteria of a “significant regulatory action” as described in E.O. 12866.

List of Subjects in 19 CFR Part 12

Customs duties and inspections, Imports, Cultural property.

Amendment to the Regulations

Accordingly, Part 12 of the Customs Regulations (19 CFR Part 12) is amended as set forth below:

PART 12—SPECIAL CLASSES OF MERCHANDISE

1. The general authority and specific authority citations for Part 12, in part, continue to read as follows:

Authority: 5 U.S.C. 301, 19 U.S.C. 66, 1202 (General Note 3(i), Harmonized Tariff Schedule of the United States (HTSUS)), 1624;

* * * * *

Sections 12.104 through 12.104i also issued under 19 U.S.C. 2612;

* * * * *

2. In § 12.104g, paragraph (a), containing the list of agreements imposing import restrictions on described articles of cultural property of State Parties, is amended by adding Colombia to the list in appropriate alphabetical order as follows:

§ 12.104(g) Specific items or categories designated by agreements or emergency actions.

(a) * * *

State party | Cultural property | Decision No.
* * * * * * *
Colombia | Pre-Colombian Archaeological Material ranging approximately from 1500 B.C. to 1530 A.D. and ecclesiastical ethnological material of the Colonial period ranging approximately from A.D. 1530 to 1830 | CBP Dec. 06-09.
* * * * * * *

* * * * *

Deborah J. Spero,
Acting Commissioner, Customs and Border Protection.
Approved: March 14, 2006.
Timothy E. Skud,
Deputy Assistant Secretary of the Treasury.

[FR Doc. 06-2620 Filed 3-16-06; 8:45 am]

BILLING CODE 9111-14-P